DEPARTMENT OF COMMERCE

International Trade Administration

[A-570-847]

Persulfates From the People's Republic of China: Final Results of the Expedited Fourth Sunset Review of the Antidumping Duty Order

AGENCY: Enforcement and Compliance, International Trade Administration, Department of Commerce.

SUMMARY: The Department of Commerce (Commerce) finds that revocation of the antidumping duty order on persulfates from the People's Republic of China (China) would be likely to lead to continuation or recurrence of dumping, at the level indicated in the “Final Results of Sunset Review” section of this notice, infra.

DATES: Applicable June 11, 2019.

FOR FURTHER INFORMATION CONTACT: Thomas Hanna, AD/CVD Operations, Office IV, Enforcement and Compliance, International Trade Administration, U.S. Department of Commerce, 1401 Constitution Avenue NW, Washington, DC 20230; telephone: (202) 482-0835.

Background

On July 7, 1997, Commerce published in the Federal Register the antidumping duty order on persulfates from China.¹ On February 5, 2019, Commerce published the notice of initiation of this sunset review of the antidumping duty order on persulfates from China pursuant to section 751(c) of the Tariff Act of 1930, as amended (the Act).² On February 19, 2019, Commerce received a timely and complete notice of intent to participate in the sunset review from a domestic interested party, PeroxyChem LLC (PeroxyChem), in which the domestic interested party claimed interested party status, as a domestic producer of persulfates, under section 771(9)(C) of the Act.³ This notice was filed within the time period specified in 19 CFR 351.218(d)(1)(i).⁴ On March 6, 2019, pursuant to 19 CFR 351.218(d)(3)(i), the domestic interested party filed a timely and adequate substantive response.⁵ Commerce did not receive a substantive response from any respondent interested party. As a result, pursuant to section 751(c)(3)(B) of the Act and 19 CFR 351.218(e)(1)(ii)(C)(2), Commerce conducted an expedited (120-day) sunset review of the Order.

¹ See Notice of Antidumping Duty Order and Amended Final Determination of Sales at Less Than Fair Value: Persulfates from the People's Republic of China, 62 FR 36259 (July 7, 1997) (Order), amended by Notice of Amended Antidumping Duty Order: Persulfates from the People's Republic of China, 62 FR 39212 (July 22, 1997).

² See Initiation of Five-Year (Sunset) Review, 84 FR 1704 (February 5, 2019).

³ See PeroxyChem's letter, “Persulfates from the People's Republic of China—Five-Year (4th Sunset) Review of Antidumping Duty Order—Notice of Intention to Participate,” dated February 19, 2019 (PeroxyChem's Notice of Intent).

⁴ Id.

⁵ See PeroxyChem's letter, “Persulfates from the People's Republic of China—Domestic Industry's Substantive Response,” dated March 6, 2019 (PeroxyChem's Substantive Response).

Scope of the Order

The products covered by the order are persulfates, including ammonium, potassium, and sodium persulfates. The chemical formulas for these persulfates are, respectively, (NH4)2S2O8, K2S2O8, and Na2S2O8. Potassium persulfates are currently classifiable under subheading 2833.40.10 of the Harmonized Tariff Schedule of the United States (HTSUS). Sodium persulfates are classifiable under HTSUS subheading 2833.40.20. Ammonium and other persulfates are classifiable under HTSUS subheadings 2833.40.50 and 2833.40.60. Although the HTSUS subheadings are provided for convenience and customs purposes, the written description of the scope of the order is dispositive.

Analysis of Comments Received

A complete discussion of all issues raised in this sunset review, specifically the likelihood of continuation or recurrence of dumping and the magnitude of the margins likely to prevail if the Order were to be revoked, is provided in the accompanying Issues and Decision Memorandum, which is hereby adopted by this notice.⁶ A list of topics discussed in the Issues and Decision Memorandum is attached to this notice as an Appendix. The Issues and Decision Memorandum is a public document and is on file electronically via Enforcement and Compliance's Antidumping and Countervailing Duty Centralized Electronic Service System (ACCESS). ACCESS is available to registered users at http://access.trade.gov and to all parties in the Central Records Unit, Room B8024 of the main Department of Commerce building. In addition, a complete version of the Issues and Decision Memorandum can be accessed at http://enforcement.trade.gov/frn/. The signed Issues and Decision Memorandum and the electronic version of the Issues and Decision Memorandum are identical in content.

⁶ See Memorandum, “Expedited Fourth Sunset Review of the Antidumping Duty Order on Persulfates from the People's Republic of China,” dated concurrently with this notice (Issues and Decision Memorandum).

Final Results of Sunset Review

Pursuant to sections 751(c)(1), 752(c)(1) and (3) of the Act, Commerce determines that revocation of the Order would likely lead to continuation or recurrence of dumping, and that the magnitude of the dumping margins likely to prevail would be weighted-average dumping margins up to 119.02 percent.

Notification Regarding Administrative Protective Orders

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results and notice in accordance with sections 751(c), 752(c), and 777(i)(1) of the Act and 19 CFR 351.218.

Dated: June 5, 2019.
Jeffrey I. Kessler,
Assistant Secretary for Enforcement and Compliance.

Appendix

List of Topics Discussed in the Issues and Decision Memorandum

I. Summary

II. Background

III. Scope of the Order

IV. History of the Proceeding

a. Order

b. Administrative, Changed Circumstances, and Sunset Reviews

c. Scope Inquiries, New Shipper Reviews, and Duty Absorption

V. Discussion of the Issues

a. Legal Framework

b. Likelihood of continuation or recurrence of dumping

c. Magnitude of the Margin of Dumping Likely to Prevail

[FR Doc. 2019-12275 Filed 6-10-19; 8:45 am]

BILLING CODE 3510-DS-P